FEDERAL COMMUNICATIONS COMMISSION

Information Collection Approved by the Office of the Management and Budget (OMB)

AGENCY: Federal Communications Commission.

ACTION: Notice.

SUMMARY: The Federal Communications Commission has received Office of Management and Budget (OMB) approval for a revised information collection pursuant to the Paperwork Reduction Act (PRA) of 1995. An agency may not conduct or sponsor a collection of information unless it displays a currently valid OMB control number, and no person is required to respond to a collection of information unless it displays a currently valid OMB control number. Comments concerning the accuracy of the burden estimates and any suggestions for reducing the burden should be directed to the person listed in the FOR FURTHER INFORMATION CONTACT section below.

FOR FURTHER INFORMATION CONTACT: Nicole Ongele, Office of the Managing Director, at (202) 418-2991, or via email: Nicole.Ongele@fcc.gov.

SUPPLEMENTARY INFORMATION:

OMB Control Number: 3060-0986.

OMB Approval Date: July 2, 2018.

OMB Expiration Date: July 31, 2021.

Title: High-Cost Universal Service Support.

Form Numbers: FCC Form 481 and FCC Form 525.

Respondents: Business or other for-profit, not-for-profit institutions and state, local or tribal government.

Number of Respondents and Responses: 1,877 respondents; 14,335 responses.

Estimated Time per Response: 0.5-15 hours.

Frequency of Response: On occasion, quarterly and annual reporting requirements, recordkeeping requirement and third party disclosure requirement.

Obligation to Respond: Required to obtain or retain benefits. Statutory authority for this information collection is contained in 47 U.S.C. 151-154, 155, 201-206, 214, 218-220, 251, 252, 254, 256, 303(r), 332, 403, 405, 410, and 1302.

Total Annual Burden: 63,486 hours.

Total Annual Cost: No cost.

Privacy Act Impact Assessment: No impact(s).

Nature and Extent of Confidentiality: The Commission notes that USAC must preserve the confidentiality of all data obtained from respondents; must not use the data except for purposes of administering the universal service programs; and must not disclose data in company-specific form unless directed to do so by the Commission. Privately-held rate-of-return carriers may file the financial information they disclose in FCC Form 481 pursuant to a protective order.

Needs and Uses: The Commission received OMB approval for this revised information collection. On July 7, 2017, the Commission released Connect America Fund; ETC Annual Reports and Certifications, WC Docket Nos. 10-90 and 14-58, Order, FCC 17-87 (ETC Reporting Streamlining Order), which streamlined the annual reporting requirements for eligible telecommunications carriers (ETCs) that receive high-cost universal service support by eliminating several rules that are either duplicative of other reporting requirements or are simply no longer necessary. In doing this, the Commission reduced ETCs' regulatory burdens while strengthening the tools for program oversight in furtherance of our goal of protecting the high cost universal support program against waste, fraud, and abuse. Specifically, the Commission eliminated its annual high-cost reporting rules regarding network outage information, unfulfilled service requests, the number of complaints received by an ETC per 1,000 subscribers for both voice and broadband services, pricing for voice and broadband services, service quality certification, and duplicate filing of the FCC Form 481 without compromising its ability to monitor whether ETCs are using high-cost universal service support for its intended purpose, adopted in the ETC Reporting Streamlining Order.

This revised information collection addresses the removal of those duplicative or otherwise unnecessary reporting requirements and the reorganization of remaining requirements, which were not substantively changed.

Federal Communications Commission.
Marlene H. Dortch,
Secretary, Office of the Secretary.

[FR Doc. 2018-16895 Filed 8-7-18; 8:45 am]

BILLING CODE 6712-01-P